DEPARTMENT OF THE TREASURY

Internal Revenue Service

26 CFR Part 1

[REG-103477-14]

RIN 1545-BL96

Chapter 4 Regulations Relating to Verification and Certification Requirements for Certain Entities and Reporting by Foreign Financial Institutions; Correction

AGENCY: Internal Revenue Service (IRS), Treasury.

ACTION: Notice of proposed rulemaking; correction.

SUMMARY: This document contains a correction to a notice of proposed rulemaking (REG-103477-14) that was published in the Federal Register on Friday, January 6, 2017 (82 FR 1629). The notice of proposed rulemaking under chapter 4 of the Subtitle A (sections 1471 through 1474) of the Internal Revenue Code of 1986 (Code) relates to verification and certification requirements for certain entities and reporting by foreign financial institutions.

DATES: This correction is effective September 15, 2017 and is applicable beginning January 6, 2017.

FOR FURTHER INFORMATION CONTACT: Kamela Nelan at (202) 317-6942 (not a toll-free number).

SUPPLEMENTARY INFORMATION:

Background

The notice of proposed rulemaking (REG-103477-14) that is the subject of this correction is under sections 1471 through 1474 of the Code.

Need for Correction

As published, the notice of proposed rulemaking (REG-103477-14) contains an omission which may prove to be misleading and needs to be corrected.

Correction of Publication

Accordingly, the notice of proposed rulemaking (82 FR 1629, January 6, 2017) is corrected as follows:

On page 1636, insert the following language after the eighth line from the top of the second column:

“Withdrawal of Notice of Proposed Rulemaking

Accordingly, under the authority of 26 U.S.C. 7805, the notice of proposed rulemaking (REG-130967-13) that was published in the Federal Register on Thursday, March 6, 2014 (79 FR 12868) is withdrawn.”

Martin V. Franks,
Chief, Publications and Regulations Branch, Legal Processing Division, Associate Chief Counsel, (Procedure and Administration).

[FR Doc. 2017-19540 Filed 9-14-17; 8:45 am]

BILLING CODE 4830-01-P